ENVIRONMENTAL PROTECTION AGENCY

[FRL-12294-01-R9]

Notice of Availability of Final Designation of Certain Stormwater Discharges Within Two Watersheds in Los Angeles County, California Under the National Pollutant Discharge Elimination System of the Clean Water Act

AGENCY: Environmental Protection Agency (EPA).

ACTION: Notice of availability.

SUMMARY: The Regional Administrator of the Environmental Protection Agency (EPA) Region 9 is providing notice of the availability of EPA's Final Designation of stormwater discharges from certain commercial, industrial and institutional (CII) sites in the Alamitos Bay/Los Cerritos Channel Watershed and the Dominguez Channel and Los Angeles/Long Beach Inner Harbor Watershed in Los Angeles County, California for National Pollutant Discharge Elimination System (NPDES) permitting under the Clean Water Act (CWA).

DATES: EPA's Final Designation of Stormwater Discharges from Certain Commercial, Industrial and Institutional Sites in the Alamitos Bay/Los Cerritos Channel Watershed and the Dominguez Channel and Los Angeles/Long Beach Inner Harbor Watershed in Los Angeles County (“EPA's Final Designation”) was signed on November 5, 2024.

FOR FURTHER INFORMATION CONTACT: Eugene Bromley, EPA Region 9, Water Division, NPDES Permits Section (WTR-2-3), 75 Hawthorne Street, San Francisco, CA 94105; telephone (415) 972-3510; email: bromley.eugene@epa.gov, or R9RDA@epa.gov.

SUPPLEMENTARY INFORMATION:

A. Does this action apply to me?

Entities potentially regulated by this action include a wide variety of privately-owned CII facilities such as shopping centers, office complexes, warehouses, private schools and hospitals, and various manufacturing facilities. Entities affected by this action are located within either of two watersheds in Los Angeles County, in California: the Los Cerritos Channel/Alamitos Bay Watershed or the Dominguez Channel and Los Angeles/Long Beach Inner Harbor Watershed. This description of affected entities is not intended to be exhaustive, but rather provides a guide for readers regarding entities likely to be affected by this action. This description of affected activities includes the types of entities that EPA is now aware could potentially be affected by this action. Other types of entities not included could also be affected. To determine whether your entity is affected by this action, you should also review the description of EPA's action in documents online at the website listed in the section C below. If you have questions regarding the applicability of this action to a particular entity, consult the person listed in the FOR FURTHER INFORMATION CONTACT section.

B. Summary of Final Designation

In the Final Designation, EPA has determined that stormwater discharges from certain CII sites in the Los Cerritos Channel/Alamitos Bay and Dominguez Channel and Los Angeles/Long Beach Inner Harbor Watersheds in Los Angeles County are contributing to violations of water quality standards and require NPDES permit coverage under the CWA. The Final Designation differs from the Revised Preliminary Designation of November 2, 2023 (88 FR 75282) in that EPA is not designating privately-operated facilities at the Ports of Long Beach and Los Angeles at this time. EPA is taking a phased approach to this Final Designation such that EPA may consider designating stormwater discharges from additional CII sources in the future.

This Final Designation is in response to two September 15, 2015 petitions entitled “Petition For A Determination That Stormwater Discharges From Commercial, Industrial, And Institutional Sites Contribute To Water Quality Standards Violations in Dominguez Channel and the Los Angeles/Long Beach Inner Harbor (Los Angeles County, California) and Require Clean Water Act Permits,” and “Petition For A Determination That Stormwater Discharges From Commercial, Industrial, And Institutional Sites Contribute To Water Quality Standards Violations in the Alamitos Bay/Los Cerritos Watershed (Los Angeles County, California) And Require Clean Water Act Permits” as well as an order from the U.S. District Court for the Central District of California in Los Angeles Waterkeeper v. Pruitt, 320 F. Supp.3d 1115 (C.D. CA 2018).

EPA's Final Designation is made pursuant to CWA sections 402(p)(2)(E) and (6) and EPA's implementing regulations at 40 CFR 122.26(a)(1)(v) and 40 CFR 122.26(a)(9)(i)(D) that authorize EPA to designate stormwater discharges for regulation under the NPDES permitting program that are contributing to violations of water quality standards but are not otherwise required to be permitted under EPA's stormwater regulations.

C. How can I get copies of this document and other related information?

Details of EPA's Final Designation, Response to Public Comments and ancillary materials may be viewed on EPA Region 9's website at: https://www.epa.gov/npdes-permits/residual-designation-authority-address-stormwater-quality-problems-epas-pacific.

Dated: November 13, 2024.
Martha Guzman Aceves,
Regional Administrator, EPA Region 9.

[FR Doc. 2024-27128 Filed 11-19-24; 8:45 am]

BILLING CODE 6560-50-P